DEPARTMENT OF AGRICULTURE

National Agricultural Statistics Service

Notice of Intent To Request Revision and Extension of a Currently Approved Information Collection

AGENCY: National Agricultural Statistics Service, USDA.

ACTION: Notice and request for comments.

SUMMARY: In accordance with the Paperwork Reduction Act of 1995, this notice announces the intention of the National Agricultural Statistics Service (NASS) to request revision and extension of a currently approved information collection, the Current Agricultural Industrial Reports (CAIR) program. Revision to burden hours will be needed due to changes in the size of the target population, sampling design, and/or questionnaire length.

DATES: Comments on this notice must be received by May 11, 2020 to be assured of consideration.

ADDRESSES:

• Email: ombofficer@nass.usda.gov. Include the docket number above in the subject line of the message.

• Efax: (855) 838-6382.

• Mail: Mail any paper, disk, or CD-ROM submissions to: David Hancock, NASS Clearance Officer, U.S. Department of Agriculture, Room 5336 South Building, 1400 Independence Avenue SW, Washington, DC 20250-2024.

• Hand Delivery/Courier: Hand deliver to: David Hancock, NASS Clearance Officer, U.S. Department of Agriculture, Room 5336 South Building, 1400 Independence Avenue SW, Washington, DC 20250-2024.

FOR FURTHER INFORMATION CONTACT: Kevin L. Barnes, Associate Administrator, National Agricultural Statistics Service, U.S. Department of Agriculture, (202) 720-2707. Copies of this information collection and related instructions can be obtained without charge from David Hancock, NASS—OMB Clearance Officer, at (202) 690-2388 or at ombofficer@nass.usda.gov.

SUPPLEMENTARY INFORMATION:

Title: Current Agricultural Industrial Reports (CAIR).

OMB Control Number: 0535—0254.

Expiration Date of Approval: August 31, 2020.

Type of Request: To revise and extend a currently approved information collection for a period of three years.

Abstract: NASS began collecting data for the Current Agricultural Industrial Reports (CAIR) in the latter half of 2014. This replaced a portion of the Current Industrial Reports (CIR) program (0607-0476) which was conducted by the U.S. Census Bureau previously. The CIR was discontinued on April 30, 2012. The previous approval (0607-0476) was for 47 different surveys.

Data from the agricultural instruments are used to generate four separate publications.

The data from these surveys supply data users with important information on the utilization of many of the crops, livestock, and poultry produced in the United States. NASS collects crop data on acres planted and harvested, production, price and stocks for these crops (grains, oilseeds, cotton, nuts, etc.), along with livestock data on the number of animals and poultry produced, slaughtered, prices, and the amount of meat kept in cold storage. The CAIR data series provides data users with vital information on how much of these commodities were processed into fuels, cooking oils, flour, fabric, etc. These data are needed to provide a more complete picture of the importance of agriculture to the American population.

In order to maintain a complete and comprehensive list of operations, NASS also conducts an Operation Profile periodically to add new operations to the survey population. This profile is also used to identify operations that do not meet the criteria to be included in this group of surveys also to serve as a training tool. The training that will be provided is designed to help insure consistent, accurate, and complete data reported on a monthly/annual basis. These surveys will be conducted as a part of the Census of Agriculture and are mandatory as defined under Title 7, Sec. 2204(g).

Publication No.* | Form No.* | Survey title | Reporting status | Frequency | Methodology
|  | Operation profile | Voluntary | Annual | Universe.
M311N | M311N | Animal & Vegetable Fats and Oil | Mandatory | Monthly | Universe.
M311J | M311C | Corn (Wet and Dry Producers of Ethanol) | Mandatory | Monthly | Universe.
| M311J | Oilseeds, Beans, and Nuts (Primary Producers) | Mandatory | Monthly | Universe
M313P | M311H | Cotton in Private Storage ** | Mandatory | Annual | Universe.
| M313P | Consumption on the Cotton System and Stocks | Mandatory | Monthly | Universe.
MQ311A | MQ311A | Flour Milling Products | Mandatory | Quarterly | Universe.
* The Form numbers and publication numbers appear on the surveys previously conducted by the Census Bureau.
** Cotton in Private Storage is published in the September publication only.

Primary users of these data include government and regulatory agencies, business firms, trade associations, and private research and consulting organizations. The USDA World Agricultural Outlook Board (WAOB) uses the data in many of their indexes. The Bureau of Economic Analysis (BEA) and the Bureau of Labor Statistics (BLS) uses the data in the estimation of components of gross domestic product (GDP) and the estimate of output for productivity analysis, respectively. Many government agencies, such as the Department of Agriculture, Food and Drug Administration, Bureau of Economic Analysis, and International Trade Administration use the data for industrial analysis, projections, and monitoring import penetration.

The National Agricultural Statistics Service will use the information collected only for statistical purposes and will publish the data only as tabulated totals.

Authority: The census of agriculture and subsequent follow-on censuses are required by law under the “Census of Agriculture Act of 1997,” 7 U.S.C. 2204(g). Individually identifiable data collected under this authority are governed by Section 1770 of the Food Security Act of 1985 as amended, 7 U.S.C. 2276, which requires USDA to afford strict confidentiality to non-aggregated data provided by respondents. This Notice is submitted in accordance with the Paperwork Reduction Act of 1995, Public Law 104-13 and Office of Management and Budget regulations at 5 CFR part 1320.

NASS also complies with OMB Implementation Guidance, “Implementation Guidance for Title V of the E-Government Act, Confidential Information Protection and Statistical Efficiency Act of 2002 (CIPSEA),” Federal Register, Vol. 72, No. 115, June 15, 2007, p. 33362.

Estimate of Burden: Public reporting burden for this collection of information is estimated to average 8-40 minutes per response. Publicity materials and instruction sheets will account for about 15 minutes of additional burden per respondent, annually. Respondents who refuse to complete the survey will be allotted 2 minutes of burden per attempt to collect the data.

Respondents: The target population will consist of managers of processing facilities that produce oils and fats from animals, grains, oilseeds, nuts, tree fruits or vegetables; or operations that are involved in the storing, rendering, or marketing of these products. Managers of ethanol plants, cotton gins, and flour mills will also be included in the target population for this group of surveys.

Estimated Number of Respondents: 760.

Estimated Total Annual Burden on Respondents: 2,400 hours.

Comments: Comments are invited on: (a) Whether the proposed collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, including through the use of appropriate automated, electronic, mechanical, technological or other forms of information technology collection methods.

All responses to this notice will become a matter of public record and be summarized in the request for OMB approval.

Signed at Washington, DC, February 19, 2020.
Kevin L. Barnes,
Associate Administrator.

[FR Doc. 2020-05057 Filed 3-11-20; 8:45 am]

BILLING CODE 3410-20-P